DEPARTMENT OF ENERGY

Federal Energy Regulatory Commission

[Docket No. EG05-47-000, et al.]

CER Termobahia, LLC, et al.; Electric Rate and Corporate Filings

February 28, 2005.

The following filings have been made with the Commission. The filings are listed in ascending order within each docket classification.

1. CER Termobahia, LLC

[Docket No. EG05-47-000]

Take notice that on February 24, 2005, CER Termobahia, LLC, a Delaware limited liability company (Applicant), with its principal executive office at 1930 Burnt Boat Drive, Bismarck, North Dakota, 58503, filed with the Federal Energy Regulatory Commission an application for determination of exempt wholesale generator status pursuant to part 365 of the Commission's regulations and section 32 of the Public Utility Holding Company Act of 1935, as amended.

Applicant states it will own, in part, a 190 MW natural-gas fired, combined-cycle electrical generating facility located in the State of Bahia, near Salvador, Brazil (the facility). Applicant further states that it will be engaged directly and exclusively in the business of owning and operating an eligible facility and none of the electric energy produced from the facility will be sold into the United States either at retail or otherwise.

Comment Date: 5 p.m. Eastern Time on March 17, 2005.

2. Public Service Company of New Mexico

[Docket Nos. ER96-1551-011, ER01-615-008]

Take notice that on February 18, 2005, Public Service Company of New Mexico (PNM) submitted a filing in response to the Commission's December 20, 2004 order in the above-captioned proceedings. Public Service Company of New Mexico, 109 FERC ¶ 61,296 (2004) (December 20 Order). PNM states that the purpose of its filing is to submit revised market power analyses and information as required by the Commission in the December 20 Order.

PNM states that copies of the filing were served on parties on the official service lists in the above-captioned proceedings.

Comment Date: 5 p.m. Eastern Time on March 11, 2005.

3. Pinnacle West Capital Corporation, Arizona Public Service Company, Pinnacle West Energy Corporation, APS Energy Services, Inc.

[Docket Nos. ER00-2268-010, EL05-10-000, ER99-4124-008, EL05-11-0000, ER00-3312-009, EL05-12-000, ER99-4122-011, EL05-13-000]

Take notice that on February 18, 2005, the Pinnacle West Capital Corporation (PWCC), the Arizona Public Service Company (APS), the Pinnacle West Energy Corporation (PWEC) and APS Energy Services Company, Inc. (APSES) (collectively, Pinnacle West Companies) filed with the Commission a response to the Commission's Order dated December 20, 2004, directing Pinnacle West Companies to provide additional information to the Commission to supplement its market update for authorization to sell at market-based rates and various tariff amendments filed on August 11, 2004.

Comment Date: 5 p.m. Eastern Time on March 11, 2005.

4. Frederickson Power L.P.; EPCOR Merchant and Capital (US) Inc.; EPCOR Power Development, Inc.; EPDC, Inc.

[Docket Nos. ER01-2262-005, ER02-783-003, ER02-852-003, ER02-855-003]

Take notice that, on February 22, 2005, Frederickson Power L.P., EPCOR Merchant and Capital (US), Inc., EPCOR Power Development, Inc., and EPDC, Inc. (collectively, the EPCOR Parties) submitted a triennial updated market-based rate analysis.

The EPCOR Parties state that copies of the filing were served on parties on the official service lists in the above-referenced proceedings.

Comment Date: 5 p.m. Eastern Standard Time March 15, 2005.

5. Midwest Independent Transmission System Operator, Inc.; Public Utilities with Grandfathered Agreements in the Midwest ISO Region

[Docket Nos. ER04-691-027, EL04-104-026 ]

Take notice that on February 23, 2005, the Midwest Independent Transmission System Operator, Inc. (Midwest ISO) submitted a compliance filing pursuant to the Commission's January 24, 2005 Order in Midwest Independent Transmission System Operator, Inc., et al., 110 FERC ¶ 61,049 (2005). The Midwest ISO has requested an April 1, 2005 effective date for the tariff pages submitted in the compliance filing.

The Midwest ISO has requested waiver of the service requirements set forth in 18 CFR 385.2010. The Midwest ISO states that it has electronically served a copy of this filing, with attachments, upon all Midwest ISO Members, Member representatives of Transmission Owners and Non-Transmission Owners, the Midwest ISO Advisory Committee participants, as well as all state commissions within the region. In addition, Midwest states that the filing has been electronically posted on the Midwest ISO's Web site at http://www.midwestiso.org under the heading “Filings to FERC” for other interested parties in this matter. The Midwest ISO will provide hard copies to any interested parties upon request.

Comment Date: 5 p.m. Eastern Time on March 16, 2005.

6. New England Power Pool

[Docket No. ER04-1255-001]

Take notice that on February 18, 2005 ISO New England Inc. (the ISO) and the New England Power Pool (NEPOOL) Participants Committee submitted a compliance filing, including a report entitled The Costs and Benefits of Implementing a Day-Ahead Load Response Program and revisions to Appendix E to Section III of the ISO's Transmission, Markets and Services Tariff (the Tariff), in response to the requirements of the Commission's December 21, 2004 order in Docket No. ER04-1255-000. NEPOOL and the ISO requested a June 1, 2005 effective date for the revisions to the tariff.

The ISO and the NEPOOL Participants Committee state that copies of the compliance filing were sent to the NEPOOL Participants and the New England state governors and regulatory commissions, as well as all parties on the official service lists in the above-captioned proceeding.

Comment Date: 5 p.m. Eastern Time on March 11, 2005.

7. Unitil Energy Systems, Inc.

[Docket No. ER05-320-001]

Take notice that on February 23, 2005, Unitil Energy Systems, Inc. (UES) submitted a compliance filing pursuant to the Commission's order issued on February 2, 2005 in Docket No. ER05-320-000, Unitil Energy Systems, Inc., 110 FERC ¶ 61,089 (2005).

UES states that copies of the filing were served on parties on the official service list in the above-captioned proceeding and on the New Hampshire Public Utility Commission.

Comment Date: 5 p.m. Eastern Time on March 16, 2005.

8. Hot Spring Power Company, LP

[Docket No. ER05-570-001]

Take notice that on February 23, 2005, Hot Spring Power Company, LP (Hot Spring) filed a supplement to its application filed February 11, 2005 in Docket No. ER05-570-000 for authorization to make wholesale sales of electric energy, capacity, and ancillary services at market-based rates, to reassign transmission capacity, and to resell firm transmission rights.

Comment Date: 5 p.m. Eastern Time on March 16, 2005.

9. Puget Sound Energy, Inc.

[Docket No. ER05-609-000]

Take notice that on February 18, 2005, Puget Sound Energy Inc. (PSE) submitted revised tariff sheets to its open access transmission tariff incorporating the changes directed by the Commission in Order No. 2003-B, Standardization of Generator Interconnection Agreements and Procedures, 109 FERC ¶ 61,287 (2004).

PSE states that electronic copies of the filing were served on the Washington Utilities and Transportation Commission and PSE's jurisdictional customers.

Comment Date: 5 p.m. Eastern Time on March 11, 2005.

10. PSI Energy, Inc.

[Docket No. ER05-634-000]

Take notice that on February 22, 2005, PSI Energy, Inc. (PSI) tendered for filing the transmission and local facilities agreement for calendar year 2003 reconciliation between PSI and Wabash Valley Power Association, Inc., and between PSI and Indiana Municipal Power Agency, designated as PSI's Rate Schedule FERC No. 253.

Comment Date: 5 p.m. Eastern Time on March 15, 2005.

11. American Electric Power Service Corporation

[Docket No. ER05-635-000]

Take notice that on February 22, 2005, the American Electric Power Service Corporation (AEPSC), tendered for filing an Interconnection and Local Delivery Service Agreement for Blue Ridge Power Association (Blue Ridge), designated as Substitute Service Agreement No. 181, to the Operating Companies of the American Electric Power System FERC Electric Tariff Third Revised Volume No. 6. AEPSC requests an effective date of February 1, 2005.

AEPSC states that a copy of the filing was served upon the Party and the Virginia Public Service Commission.

Comment Date: 5 p.m. Eastern Time on March 15, 2005.

12. Midwest Independent Transmission System Operator, Inc.

[Docket No. ER05-636-000]

Take notice that on February 23, 2005, the Midwest Independent Transmission System Operator, Inc. (Midwest ISO) submitted a Large Generator Interconnection Agreement among Columbia Community Windpower LLC, American Transmission Company LLC and the Midwest ISO.

Midwest ISO states that a copy of this filing was served on the parties to this Interconnection Agreement.

Comment Date: 5 p.m. Eastern Time on March 16, 2005.

13. Wisconsin Public Service Corporation

[Docket No. ER05-637-000]

Take notice that on February 23, 2005, Wisconsin Public Service Corporation (WPSC) tendered for filing, the actual 2004 values for billing for post-employment benefits (PEB) and post-employment benefits other than pensions (PBOP) in its formula rates for: (1) The W-1A tariff for full requirements service; (2) the W-2A tariff for partial requirements service; and (3) Rate Schedule No. 51 for partial requirements service for the City of Marshfield. WPSC has also requests waiver of the notice requirements to allow it to apply the 2004 PEB and PBOP values to the true-up of these wholesale customers' estimated capacity rate billings for service during 2004 and for estimated billing as of April 1, 2005.

WPSC states that copies of the filing were served upon WPSC's affected wholesale customers, the Public Service Commission of Wisconsin and the Michigan Public Service Commission.

Comment Date: 5 p.m. Eastern Time on March 16, 2005.

14. Illinois Power Company

[Docket No. ER05-638-000]

Take notice that on February 23, 2005, Illinois Power Company (Illinois Power) submitted a Market-Based Rate Tariff authorizing AmerenIP to engage in the sale of electric energy, capacity and firm rights at market-based rates and to reassign transmission capacity rights at negotiated rates. Illinois Power requests an effective date of the later of April 1, 2005, or the first day of the Midwest ISO's Day 2 markets (currently expected to be April 1, 2005).

Comment Date: 5 p.m. Eastern Time on March 16, 2005.

15. Brascan Power Piney & Deep Creek LLC

[Docket No. ER05-639-000]

Take notice that on February 23, 2005, Brascan Power Piney & Deep Creek LLC (Brascan Power PDC) submitted for filing an application for market-based rate authorization to sell energy, capacity, and ancillary services, and reassign transmission capacity and resell firm transmission rights. Brascan Power PDC also requests the waivers and exemptions from regulation typically granted to the holders of market-based rate authorization. In addition, Brascan Power PDC requests waiver of the 60-day prior notice requirement and requests expedited consideration of its application for market-based rate authorization.

Comment Date: 5 p.m. Eastern Time on March 16, 2005.

16. Cinergy Services, Inc.

[Docket No. ER05-640-000]

Take notice that on February 23, 2005, Cinergy Services, Inc. (Cinergy Services), on behalf of The Cincinnati Gas & Electric Company (CG&E), PSI Energy, Inc. (PSI) and Cinergy Power Investments, Inc. submitted for filing a revised Joint Generation Dispatch Agreement between PSI and CG&E.

Cinergy Services states that copies of the filing were served upon the Indiana Utility Regulatory Commission.

Comment Date: 5 p.m. Eastern Time on March 16, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-904 Filed 3-4-05; 8:45 am]

BILLING CODE 6717-01-P